DEPARTMENT OF VETERANS AFFAIRS

[OMB Control No. 2900-0679]

Agency Information Collection (Certification of Change or Correction of Name Government Life Insurance, VA Form 29-586) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 27, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0679” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0679.”

SUPPLEMENTARY INFORMATION: Title: Certification of Change or Correction of Name Government Life Insurance, VA Form 29-586.

OMB Control Number: 2900-0679.

Type of Review: Revision of a currently approved collection.

Abstract: The information collected on this form is used by the Insurance Activity to initiate the processing of the insured's request to change his/her name. The information on the form is required by law, U.S.C. 1904 and 1942.

An agency may not conduct or sponsor, and a person is not required to respond to a collection of information unless it displays a currently valid OMB control number. The Federal Register Notice with a 60-day comment period soliciting comments on this collection of information was published at 80 FR 2782 on January 20, 2015.

Affected Public: Individuals or households.

Estimated Annual Burden: 20 Hours

Estimated Average Burden per Respondent: 10 minutes.

Frequency of Response: On occasion

Estimated Number of Respondents: 120 a year

Dated: June, 23, 2015.
By direction of the Secretary:
Kathleen M. Manwell,
Office of Privacy and Records Management, Department of Veterans Affairs.

[FR Doc. 2015-15775 Filed 6-25-15; 8:45 am]

BILLING CODE 8320-01-P